ENVIRONMENTAL PROTECTION AGENCY

[FRL -9218-2]

Notice of Public Meeting of the Interagency Steering Committee on Radiation Standards

AGENCY: Environmental Protection Agency.

ACTION: Notice of public meeting.

SUMMARY: The Environmental Protection Agency (EPA) will host a meeting of the Interagency Steering Committee on Radiation Standards (ISCORS) on November 9, 2010, in Washington, DC. The purpose of ISCORS is to foster early resolution and coordination of regulatory issues associated with radiation standards. Agencies represented as members of ISCORS include the following: EPA; Nuclear Regulatory Commission; Department of Energy; Department of Defense; Department of Transportation; Department of Homeland Security; Department of Labor's Occupational Safety and Health Administration; and the Department of Health and Human Services. ISCORS meeting observer agencies include the Office of Science and Technology Policy, Office of Management and Budget, Defense Nuclear Facilities Safety Board, as well as representatives from both the States of Illinois and Pennsylvania. ISCORS maintains several objectives: (1) Facilitate a consensus on allowable levels of radiation risk to the public and workers; (2) promote consistent and scientifically sound risk assessment and risk management approaches in setting and implementing standards for occupational and public protection from ionizing radiation; (3) promote completeness and coherence of Federal standards for radiation protection; and (4) identify interagency radiation protection issues and coordinate their resolution. ISCORS meetings include presentations by the chairs of the subcommittees and discussions of current radiation protection issues. Committee meetings normally involve pre-decisional intra-governmental discussions and, as such, are normally not open for observation by members of the public or media. This is the one ISCORS meeting out of four held each year that is open to all interested members of the public. There will be time on the agenda for members of the public to provide comments. Summaries of previous ISCORS meetings are available at the ISCORS Web site, http://www.iscors.org. The final agenda for the November 9th meeting will be posted on the Web site shortly before the meeting.

DATES: The meeting will be held on November 9, 2010, from 1 p.m. to 4 p.m.

ADDRESSES: The ISCORS meeting will be held in Room 152 at the EPA building located at 1310 L Street, NW., in Washington, DC. Attendees are required to present a photo ID such as a government agency photo identification badge or valid driver's license. Visitors and their belongings will be screened by EPA security guards. Visitors must sign the visitors log at the security desk and will be issued a visitors badge by the security guards to gain access to the meeting.

FOR FURTHER INFORMATION CONTACT: Marisa Savoy, Radiation Protection Division, Office of Radiation and Indoor Air, Mailcode 6608J, Environmental Protection Agency, 1200 Pennsylvania Avenue, NW., Washington, DC 20460; telephone 202-343-9237; fax 202-343-2302; e-mail address savoy.marisa@epa.gov.

SUPPLEMENTARY INFORMATION: Pay parking is available for visitors at the Colonial parking lot next door in the garage of the Franklin Square building. Visitors can also ride metro to the McPherson Square (Blue and Orange Line) station and leave the station via the 14th Street exit. Walk two blocks north on 14th Street to L Street. Turn right at the corner of 14th and L Streets. EPA's 1310 L Street building is on the right towards the end of the block. Visit the ISCORS Web site, http://www.iscors.org for more detailed information.

Dated: October 14, 2010.
Michael P. Flynn,
Director, Office of Radiation and Indoor Air.

[FR Doc. 2010-27175 Filed 10-26-10; 8:45 am]

BILLING CODE 6560-50-P